DEPARTMENT OF HEALTH AND HUMAN SERVICES

Administration for Community Living

[OMB# 0985-0050]

Agency Information Collection Activities; Submission for OMB Review; Public Comment Request; Information Collection Request for the Independent Living, and Rehabilitation Research (NIDILRR) Grantee Annual Performance Reporting (APR) and Final Report Forms

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-Day notice collects comments on the information collection requirements related to the proposed extension for the information collection requirements related to the NIDILRR Grantee Annual Performance Reporting (APR) and Final Report Forms.

DATES: Submit written comments on the collection of information by December 17, 2020.

ADDRESSES: Submit written comments and recommendations for the proposed information collection within 30 days of publication of this notice to www.reginfo.gov/public/do/PRAMain Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Mary Darnell, Administration for Community Living, mary.darnell@acl.hhs.gov Phone: 202-795-7337

SUPPLEMENTARY INFORMATION: In compliance with 44 U.S.C. 3507, ACL has submitted the following proposed collection of information to OMB for review and clearance.

The Administration for Community Living (ACL) is requesting approval for a revised data collection associated with the National Institute on Disability, Independent Living, and Rehabilitation Research (NIDILRR) Grantee Annual Performance Reporting (APR) and Final Report Forms.

This information collection collects data from all NIDILRR Grantees via a web-based reporting system and addresses specific HHS regulations that shall be met by applicants and grantees.

HHS regulations that apply to NIDILRR Grant programs include Part 75 of the Uniform Administrative Requirements, Cost Principles and Audit requirements for HHS Awards. Specifically, § 75.342 which requires grantees to submit an annual performance report or, for the last year of a project, a final report that evaluates: (a) The grantee's progress in achieving the objectives in its approved application, (b) the effectiveness of the project in meeting the purposes of the program, and (c) the results of research and related activities.

Additionally, GPRA requires all federal agencies to implement performance measurement systems that include: (1) A five-year strategic plan, (2) an annual performance plan, and (3) an annual performance report. Currently, NIDILRR has met these requirements and has established performance indicators to meet the reporting requirements. The NIDILRR APR System currently includes reporting forms for all 10 of NIDILRR's grant programs.

Reporting forms for all 10 programs are Web-based. Data collected through these forms (a) Facilitate program planning and management; (b) respond to ACL/HHS Grants Policy Administration Manual (GPAM) requirements and (c) respond to the reporting requirements of the Government Performance and Results Act (GPRA) of 1993.

NIDILRR uses the information gathered annually from these data collection efforts to provide Congress with the information mandated in GPRA, provide OMB information required for assessment of performance on GPRA indicators, and support its evaluation activities. Data collected from the 10 grant programs will provide a national description of the research activities of approximately 255 NIDILRR grantees.

NIDILRR's GPRA plan must collect information to meet the following mandates: (a) Implementation of a comprehensive plan that includes goals and objectives; (b) measurement of the program's progress in meeting its objectives; and (c) submission of an annual report on program performance, including plans for program improvement, as appropriate. The data collection system addresses nearly all of the agency's GPRA indicators, either directly or by providing information for the agency's other review processes.

Comments in Response to the 60-Day Federal Register Notice

A notice published in the Federal Register on July 31, 2020 in FR 85 46125-46126. There were no public comments received during the 60-day FRN comment period.

Estimated Program Burden

ACL estimates the burden associated with this collection of information as follows:

| Number of respondents | Number of responses per respondent | Average burden hours per response | Total burden hours
New Grantees | 61 | 1 | 52 | 3,172
Continuations of Major Programs | 122 | 1 | 22 | 2,684
Other Continuations | 87 | 1 | 10 | 870
Total | 270 |  |  | 6,726

Dated: November 10, 2020.
Mary Lazare,
Principal Deputy Administrator.

[FR Doc. 2020-25277 Filed 11-16-20; 8:45 am]

BILLING CODE 4154-01-P